OVERSEAS PRIVATE INVESTMENT CORPORATION

Sunshine Act Meeting; Board of Directors

TIME AND DATE: Thursday, January 27, 2005, 9:30 a.m. (open portion); 9:45 a.m. (closed portion).

PLACE: Offices of the Corporation, Twelfth Floor Board Room, 1100 New York Avenue, NW., Washington, DC.

STATUS: Meeting open to the public from 9:30 a.m. to 9:45 a.m.; closed portion will commence at 9:45 a.m. (approx.).

MATTERS TO BE CONSIDERED:

1. President's Report.

2. Approval of November 10, 2004 Minutes (open portion).

FURTHER MATTERS TO BE CONSIDERED: (Closed to the Public 9:45 a.m.).

1. Auditor's Report to the Board.

2. Finance Project—Algeria.

3. Finance Project—Mexico.

4. Finance Project—Pakistan.

5. Finance Project—Mexico.

6. Finance Project—Mexico.

7. Finance Project—Mexico.

8. Approval of November 10, 2004 Minutes (closed portion).

9. Pending Major Projects.

10. Reports.

FOR FURTHER INFORMATION CONTACT: Information on the meeting may be obtained from Connie M. Downs at (202) 336-8438.

Dated: January 12, 2005.
Connie M. Downs,
Corporate Secretary, Overseas Private Investment Corporation.

[FR Doc. 05-907 Filed 1-12-05; 11:29 am]

BILLING CODE 3210-01-M